DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Executive Subcommittee.

Time and Date: February 6, 2008 8:30 a.m.-5 p.m.; February 7, 2008 8:30 a.m.-12 p.m.

Place: The L'Enfant Plaza Hotel, 480 L'Enfant Plaza, SW., Washington, DC 20024.

Status: Open.

Purpose: The NCVHS Executive Subcommittee will hold a day and a half meeting to review the past year's accomplishments and conduct strategic planning for the coming year. On the first day, the Subcommittee will review their 2007 activities; discuss current and anticipated health data needs, as well as marketing and dissemination of the Committee's products. On the morning of the second day the Subcommittee will discuss collaborative activities with the Board of Scientific Counselors at the National Center for Health Statistics, the plans for updating the 21st Century Health Statistics, and the upcoming NCVHS 60th anniversary.

Contact Person For More Information: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: January 28, 2008.
James Scanlon,
Deputy Assistant Secretary for Science and Data Policy, Office of the Assistant Secretary for Planning and Evaluation.

[FR Doc. 08-478 Filed 2-4-08; 8:45 am]

BILLING CODE 4151-05-M